DEPARTMENT OF STATE

[Public Notice 6206]

Bureau of Educational and Cultural Affairs (ECA) Request for Grant Proposals: Greek Teacher Professional Development Project

Announcement Type: New Cooperative Agreement.

Funding Opportunity Number: ECA/A/S/X-08-06.

Catalog of Federal Domestic Assistance Number: 00.000.

Key Dates: Application Deadline: June 6, 2008.

Executive Summary: The Office of Global Educational Programs of the Bureau of Educational and Cultural Affairs of the U.S. Department of State announces an open competition for the Greek Teacher Professional Development Project. U.S. public and private universities with schools of education and that meet the provisions described in Internal Revenue Code section 26 U.S.C. 501(c)(3) may submit proposals to administer an eight-week professional development program to start in August 2009, for approximately twenty teachers in the humanities from Greece at an early point in their careers as educators. The program will focus on teaching methodology as well as the use of technology in the classroom and should include both an academic component of seminars at a U.S. university's school of education and a practical component of practice teaching with guidance from experienced mentor teachers in local schools. Interested universities should demonstrate strong contacts with local U.S. school districts to facilitate the practical internship component, as well as the faculty resources to conduct a substantive academic program. Host schools for internships may be public, private, magnet or charter schools, and should exemplify educational best practices.

I. Funding Opportunity Description

Authority

Overall grant making authority for this program is contained in the Mutual Educational and Cultural Exchange Act of 1961, as amended, Public Law 87-256, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic, and peaceful relations between the United States and the other countries of the world.” The funding authority for the program above is provided through legislation.

Purpose

The program will bring approximately twenty beginning teachers in the humanities from Greece to the U.S. to study and practice student-centered teaching approaches and the uses of technology in the classroom. The teachers, who will speak English, will be recruited by the U.S. Educational Foundation in Greece (Fulbright Foundation) in consultation with the Ministry of Education in Greece for approval by the ECA program office. The group will be diverse in terms of their home regions in Greece, gender, and socio-economic background. Following the program, the teachers will return with enhanced abilities as young professionals teaching in secondary schools throughout Greece.

This program is designed to provide these new teachers with a substantive cultural and exchange experience in the United States as well as a basis for continuing cooperation with U.S. counterparts in the promotion of mutual understanding.

Program Administration

Activities and responsibilities of the program office in the Bureau of Educational and Cultural Affairs (ECA) include:

(1) Participation in the design and direction of program activities;

(2) Approval of key personnel;

(3) Approval and input on program timelines, agendas and administrative procedures;

(4) Guidance in execution of all program components;

(5) Review and approval of all program publicity and recruitment materials;

(6) Approval of participating teachers, in cooperation with the U.S. Educational Foundation in Greece;

(7) Approval of decisions related to special circumstances or problems throughout the duration of program;

(8) Assistance with non-immigration status and other SEVIS-related issues;

(9) Assistance with participant emergencies; and

(10) Liaison with the U.S. Educational Foundation in Greece.

Programs must conform with Bureau requirements and guidelines outlined in the Solicitation Package which includes the Request for Grant Proposals (RFGP), the Project Objectives, Goals and Implementation (POGI) and the Proposal Submission Instructions (PSI).

Overall Responsibilities of the Recipient

The recipient is responsible for preparation of form DS-2019 under a G Program Number under the Bureau's responsibility on behalf of the ECA program office; organizing and implementing pre-orientation and debriefing programs; placement; monitoring, supervision, and support of participants; administering sub-award competitions as necessary; and fiscal management, evaluation, and follow-on and alumni activities for the program components described above. Please see the POGI for details pertaining to these activities. The recipient should coordinate program administration with the Fulbright Foundation in Greece and consult with the ECA program office regarding program activities, maintaining regular telephone, e-mail, and fax communications. The recipient should administer financial aspects of the program and comply with Bureau reporting requirements.

Specific recipient activities and responsibilities are described according to program phases as follows:

Pre-departure Orientation: The recipient should, in cooperation with representatives of the Fulbright Foundation, conduct a two-day pre-departure orientation workshop for the participants in Greece.

The recipient should prepare and provide substantive information about the program for the pre-departure orientation including information about program goals and requirements. At the orientation, organizers should address issues about the participants' stay in the U.S. and provide a basic introduction to U.S. life and customs, and how these customs may differ from those in Greece.

U.S. Program: In the United States, the recipient should:

(1) Provide the Greek teachers with an introduction to U.S. government as it relates to education, the U.S. educational system and U.S. culture through site visits;

(2) Arrange for the teachers to visit a variety of secondary schools (public, private, charter, etc.), including economically and ethnically diverse schools;

(3) Arrange for the teachers to gain direct knowledge of local school governance, by attending faculty, board of education, and parent-teacher association meetings;

(4) Select local U.S. secondary schools to serve as internship hosts (based on a review of brief proposals solicited by the recipient from the schools outlining their interests, understanding of program goals, examples of best practices, and commitments to mentoring);

(5) Place small groups of participants at secondary schools near the university for six-week internships. The Greek teachers should be paired with experienced U.S. teachers whose academic specializations match their own. Internship activities should include observing a variety of teaching methods (inquiry, active classroom, group projects, etc.) as well as computer-based lessons; integrating technology in the classroom; working individually (or in pairs) with a mentor teacher on curriculum development; team teaching; and, if possible, teaching independently under the guidance of a mentor teacher;

(6) Organize and deliver seminars on pedagogical topics. These seminars should be integrated with the internships and include topics such as classroom management, conflict resolution, diversity, and curriculum development. The seminars should also help participants create a curriculum or portfolio for use after returning to Greece;

(7) Coordinate cultural experiences that enable participants to interact with their local communities through brief home hospitality visits and involvement with non-school-based groups in activities reflecting the diversity of U.S. society, and that include opportunities to speak formally or informally to Americans about contemporary Greek society and culture;

(8) Create a network through which Greek teachers can communicate and support one another in using the new methodologies and to facilitate the development of follow-on activities in cooperation with the Fulbright Foundation; and

(9) Arrange an end-of-program debriefing of one or two days in Washington, DC to enable the Greek teachers to share with ECA managers what they have observed and learned. The debriefing should also suggest strategies for Greek teachers to share their knowledge as program alumni with professional counterparts and students in their own classrooms in Greece after they return home.

Follow-on Activities in Greece: The recipient university should send representatives to make presentations and provide facilitative assistance at a follow-on workshop in Greece, to be organized and funded by the Fulbright Foundation.

The agreement will begin on or about September 1, 2008 and the recipient should complete all exchange activities by June 30, 2010. The exchange program will take place August-September 2009. Please refer to additional program specific guidelines in the Project Objectives, Goals, and Implementation (POGI) document.

Programs must comply with J-1 visa regulations. Please refer to Solicitation Package for further information.

II. Award Information

Type of Award: Cooperative Agreement.

Fiscal Year Funds: 2008.

Approximate Total Funding: $200,000.

Approximate Number of Awards: 1.

Approximate Average Award: $200,000.

Anticipated Award Date: Pending availability of funds, September 1, 2008.

Anticipated Project Completion Date: June 30, 2010.

Additional Information: Pending successful implementation of this program and the availability of funds in subsequent fiscal years, it is ECA's intent to renew this agreement for two additional fiscal years, before openly competing it again.

III. Eligibility Information

III.1. Eligible Applicants: Applications may be submitted by U.S. public and private universities meeting the provisions described in Internal Revenue Code section 26 U.S.C. 501(c)(3). Universities applying for this program must involve their schools or departments of education in program implementation.

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements: Bureau grant guidelines require that organizations with less than four years experience in conducting international exchanges be limited to $60,000 in Bureau funding. ECA anticipates awarding one grant, in an amount up to $200,000 to support program and administrative costs required to implement this exchange program. Therefore, organizations with less than four years experience in conducting international exchanges are ineligible to apply under this competition. The Bureau encourages applicants to provide maximum levels of cost sharing and funding in support of its programs.

IV. Application and Submission Information

Note: Please read the complete Federal Register announcement before sending inquiries or submitting proposals. Once the RFGP deadline has passed, Bureau staff may not discuss this competition with applicants until the proposal review process has been completed.

IV.1. Contact Information to Request an Application Package: Please contact Patricia Mosley of the Teacher Exchange Branch, ECA/A/S/X, Room 349, U.S. Department of State, SA-44, 301 4th Street, SW., Washington, DC 20547, telephone: (202) 453-8897, fax: (202) 453-8890, e-mail: MosleyPJ@state.gov to request a Solicitation Package. Please refer to the Funding Opportunity Number ECA/A/S/X-08-06 located at the top of this announcement when making your request.

Alternatively, an electronic application package may be obtained from grants.gov. Please see section IV.3f for further information.

The Solicitation Package contains the Proposal Submission Instruction (PSI) document which consists of required application forms, and standard guidelines for proposal preparation.

It also contains the Project Objectives, Goals and Implementation (POGI) document, which provides specific information, award criteria and budget instructions tailored to this competition.

Please specify Michelle Garren, telephone: (202) 453-8884, e-mail: GarrenMW@state.gov and refer to the Funding Opportunity Number ECA/A/S/X-08-06 located at the top of this announcement on all other inquiries and correspondence.

IV.2. To Download a Solicitation Package Via Internet: The entire Solicitation Package may be downloaded from the Bureau's Web site at http://exchanges.state.gov/education/rfgps/menu.htm, or from the Grants.gov Web site at http://www.grants.gov. Please read all information before downloading.

IV.3. Content and Form of Submission: Applicants must follow all instructions in the Solicitation Package. The original and seven copies of the application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. You must have nonprofit status with the IRS at the time of application.

Please note: Effective March 14, 2008, all applicants for ECA federal assistance awards must include with their application, a copy of page 5, Part V-A, “Current Officers, Directors, Trustees, and Key Employees” of their most recent Internal Revenue Service (IRS) Form 990, “Return of Organization Exempt From Income Tax.” If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing the J Visa

The Bureau of Educational and Cultural Affairs is placing critically important emphasis on the secure and proper administration of Exchange Visitor (J visa) Programs and adherence by grantees and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, record-keeping, reporting and other requirements.

The Grantee will be responsible for issuing DS-2019 forms to participants in this program on behalf of the Bureau and under the Bureau SEVIS number.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 203-5029, FAX: (202) 453-8640.

Please refer to the Solicitation Package for further information.

IV.3d.2 Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the 'Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3 Program Monitoring and Evaluation

Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) Specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.) Grantees will be required to provide reports analyzing their evaluation findings to the Bureau in their regular program reports. All data collected, including survey responses and contact information, must be maintained for a minimum of three years and provided to the Bureau upon request.

IV.3.d.4. Describe your plans for staffing: Please provide a staffing plan which outlines the responsibilities of each staff person and explains which staff member will be accountable for each program responsibility. Wherever possible please streamline administrative processes.

IV.3e. Please take the following information into consideration when preparing your budget:

IV.3e.1. Applicants must submit a comprehensive budget for the entire program. The budget should not exceed $200,000 for program and administrative costs. There must be a summary budget as well as breakdowns reflecting both administrative and program budgets for host campus and foreign teacher involvement in the program. Applicants may provide separate sub-budgets for each program component, phase, location, or activity to provide clarification.

The summary and detailed administrative and program budgets should be accompanied by a narrative which provides a brief rationale for each line item including a methodology for estimating appropriate average maintenance allowance levels and tuition costs (as applicable) for the participants, and the number that can be accommodated at the levels proposed. The total administrative costs funded by the Bureau must be reasonable and appropriate.

IV.3e.2. Allowable costs for the program and additional budget guidance are outlined in detail in the POGI document.

Please refer to the Solicitation Package for complete budget guidelines and formatting instructions.

IV.3f. Application Deadline and Methods of Submission:

Application Deadline Date: Friday, June 6, 2008.

Reference Number: ECA/A/S/X-08-06.

Methods of Submission: Applications may be submitted in one of two ways:

1. In hard-copy, via a nationally recognized overnight delivery service (i.e., DHL, Federal Express, UPS, Airborne Express, or U.S. Postal Service Express Overnight Mail, etc.), or

2. Electronically through http://www.grants.gov.

Along with the Project Title, all applicants must enter the above Reference Number in Box 11 on the SF-424 contained in the mandatory Proposal Submission Instructions (PSI) of the solicitation document.

IV.3f.1 Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and seven copies of the application should be sent to: U.S. Department of State, SA-44, Bureau of Educational and Cultural Affairs, Ref.: ECA/A/S/X-08-06, Program Management, ECA/EX/PM, Room 534, 301 4th Street, SW., Washington, DC 20547.

Applicants submitting hard-copy applications must also submit the “Executive Summary” and “Proposal Narrative” sections of the proposal in text (.txt) format on a PC-formatted disk. The Bureau will provide these files electronically to the appropriate Public Affairs Section at the U.S. embassy for its review.

IV.3f.2 Submitting Electronic Applications

Applicants have the option of submitting proposals electronically through Grants.gov (http://www.grants.gov). Complete solicitation packages are available at Grants.gov in the “Find” portion of the system. Please follow the instructions available in the “Get Started” portion of the site (http://www.grants.gov/GetStarted).

Several of the steps in the Grants.gov registration process could take several weeks. Therefore, applicants should check with appropriate staff within their organizations immediately after reviewing this RFGP to confirm or determine their registration status with Grants.gov. Once registered, the amount of time it can take to upload an application will vary depending on a variety of factors including the size of the application and the speed of your internet connection. Therefore, we strongly recommend that you not wait until the application deadline to begin the submission process through Grants.gov.

Direct all questions regarding Grants.gov registration and submission to: Grants.gov Customer Support, Contact Center Phone: 800-518-4726, Business Hours: Monday-Friday, 7 a.m.-9 p.m. Eastern Time, E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Applicants will receive a confirmation e-mail from grants.gov upon the successful submission of an application. ECA will not notify you upon receipt of electronic applications.

It is the responsibility of all applicants submitting proposals via the Grants.gov Web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section and Fulbright Foundation overseas. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (cooperative agreements) resides with the Bureau's Grants Officer.

Review Criteria

Technically eligible applications will be competitively reviewed according to the criteria stated below. These criteria are not rank ordered and all carry equal weight in the proposal evaluation:

1. Program Development and Management: The proposal narrative should exhibit originality, substance, precision, and relevance to the Bureau's mission as well as the objectives of the Greek Teacher Professional Development Project. It should include an effective, feasible program plan for U.S.-based school internships and host university seminars.

2. Multiplier Effect/Impact: The proposed program should strengthen long-term mutual understanding, including maximum sharing of information and establishment of long-term institutional and individual linkages.

3. Support of Diversity: Proposals should demonstrate substantive support of the Bureau's policy on diversity. Achievable and relevant features should be cited in both program administration (selection of participants, program venue and program evaluation) and program content (orientation and wrap-up sessions, program meetings, resource materials and follow-up activities).

4. Institutional Capacity and Record: Proposals should demonstrate an institutional record of successful exchange programs, including responsible fiscal management and full compliance with all reporting requirements for past Bureau grants as determined by Bureau Grants Staff. The successful proposal will demonstrate the organization's experience in international educational exchange and internship programs, and an understanding of Greece's history, culture, religion, and system of education. The Bureau will consider the past performance of prior recipients and the demonstrated potential of new applicants.

5. Follow-on and Alumni Activities: Proposals should provide a plan for continued follow-on activity (both with and without Bureau support) ensuring that the Greek Teacher Professional Development Project is not an isolated event. Activities should include tracking and maintaining updated lists of all alumni and facilitating follow-up activities, including facilitating an alumni conference in Greece organized by the Fulbright Foundation and the Greek Ministry of Education.

6. Project Evaluation: Proposals should include a plan to evaluate the activity's success, both as the activities unfold and at the end of the program. A draft survey questionnaire or other technique plus description of a methodology to use to link outcomes to original project objectives is recommended.

7. Cost-effectiveness and Cost Sharing: The overhead and administrative components of the proposal, including salaries and honoraria, should be kept as low as possible. All other items should be necessary and appropriate. Proposals should maximize cost-sharing through other private sector support as well as institutional direct funding contributions.

VI. Award Administration Information

VI.1a Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants;http://exchanges.state.gov/education/grantsdiv/terms.htm#articleI.

VI.3. Reporting Requirements

You must provide ECA with a hard copy original plus one copy of the following reports:

1. A final program and financial report no more than 90 days after the expiration of the award;

2. A concise, one-page final program report summarizing program outcomes no more than 90 days after the expiration of the award. This one-page report will be transmitted to OMB, and be made available to the public via OMB's USAspending.gov Web site—as part of ECA's Federal Funding Accountability and Transparency Act (FFATA) reporting requirements.

3. Quarterly program and financial reports.

The recipient will be required to provide reports analyzing their evaluation findings to the Bureau in their regular program reports. (Please refer to IV. Application and Submission Instructions (IV.3.d.3) above for Program Monitoring and Evaluation information.)

All data collected, including survey responses and contact information, must be maintained for a minimum of three years and provided to the Bureau upon request.

All reports must be sent to the ECA Grants Officer and ECA Program Officer listed in the final assistance award document.

VII. Agency Contacts

For questions about this announcement, contact: Michelle Garren, Office of Global Educational Programs, ECA/A/S/X, Room 349, ECA/A/S/X-08-06, U.S. Department of State, SA-44, 301 4th Street, SW., Washington, DC 20547, telephone: 202-453-8884, fax 202-453-8890, GarrenMW@state.gov.

All correspondence with the Bureau concerning this RFGP should reference the above title and number ECA/A/S/X-08-06.

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: April 23, 2008.
Goli Ameri,
Assistant Secretary for Educational and Cultural Affairs, Department of State.

[FR Doc. E8-9603 Filed 4-30-08; 8:45 am]

BILLING CODE 4710-05-P